DEPARTMENT OF HEALTH AND HUMAN SERVICES

Centers for Disease Control and Prevention (CDC)

Subcommittee on Procedures Review, Advisory Board on Radiation and Worker Health (ABRWH or Advisory Board), National Institute for Occupational Safety and Health (NIOSH)

In accordance with section 10(a)(2) of the Federal Advisory Committee Act (Pub. L. 92-463), the Centers for Disease Control and Prevention (CDC) announces the following meeting for the aforementioned subcommittee:

Time and Date:11 a.m.-5 p.m., EST, February 18, 2015.

Place: Audio Conference Call via FTS Conferencing. The USA toll-free, dial-in number, 1-866-659-0537 and the passcode is 9933701.

Status: Open to the public. The public is welcome to submit written comments in advance of the meeting, to the contact person below. Written comments received in advance of the meeting will be included in the official record of the meeting. The public is also welcome to listen to the meeting by joining the teleconference at the USA toll-free, dial-in number, 1-866-659-0537 and the passcode is 9933701.

Background: The ABRWH was established under the Energy Employees Occupational Illness Compensation Program Act of 2000 to advise the President on a variety of policy and technical functions required to implement and effectively manage the compensation program. Key functions of the ABRWH include providing advice on the development of probability of causation guidelines that have been promulgated by the Department of Health and Human Services (HHS) as a final rule; advice on methods of dose reconstruction which have also been promulgated by HHS as a final rule; advice on the scientific validity and quality of dose estimation and reconstruction efforts being performed for purposes of the compensation program; and advice on petitions to add classes of workers to the Special Exposure Cohort (SEC).

In December 2000, the President delegated responsibility for funding, staffing, and operating the Advisory Board to HHS, which subsequently delegated this authority to CDC. NIOSH implements this responsibility for CDC. The charter was issued on August 3, 2001, renewed at appropriate intervals, and will expire on August 3, 2015.

Purpose: The ABRWH is charged with (a) providing advice to the Secretary, HHS, on the development of guidelines under Executive Order 13179; (b) providing advice to the Secretary, HHS, on the scientific validity and quality of dose reconstruction efforts performed for this program; and (c) upon request by the Secretary, HHS, providing advice to the Secretary on whether there is a class of employees at any Department of Energy facility who were exposed to radiation but for whom it is not feasible to estimate their radiation dose, and on whether there is a reasonable likelihood that such radiation doses may have endangered the health of members of this class. The Subcommittee on Procedures Review was established to aid the ABRWH in carrying out its duty to advise the Secretary, HHS, on dose reconstructions. The Subcommittee on Procedures Review is responsible for overseeing, tracking, and participating in the reviews of all procedures used in the dose reconstruction process by the NIOSH Division of Compensation Analysis and Support (DCAS) and its dose reconstruction contractor (Oak Ridge Associated Universities—ORAU).

Matters for Discussion: The agenda for the Subcommittee meeting includes: Discussion of procedures in the following ORAU and DCAS technical documents: Procedures for reconstructing dose associated with potential skin contamination, ORAU Team Technical Information Bulletin (OTIB) 0054 (“Fission and Activation Product Assignment for Internal Dose-Related Gross Beta and Gross Gamma Analyses”), OTIB 0082 (“Dose Reconstruction Method for Chronic Lymphocytic Leukemia”), Program Evaluation Report (PER) 009 (“Target Organs for Lymphoma”); PER 011 (“K-25 [Technical Basis Document] TBD and TIB Revisions”), PER 018 (“Los Alamos National Laboratory TBD Revision, Rev. 00,”), PER 031 (“Y-12 TBD Revisions”), PER 042 (“Linde Ceramic Plant TBD Revision”), PER 043 (“Internal and External Dosimetry Organs and IREP Model Selection by ICD-9 Code Revision”), PER 045 (“Aliquippa Forge TBD Revision”), PER 0052 (“Westinghouse Nuclear Fuels Division”); Update on Review of ORAU Team Report 0053 (“Stratified Co-Worker Sets”); and a continuation of the comment-resolution process for other dose reconstruction procedures under review by the Subcommittee.

The agenda is subject to change as priorities dictate.

Contact Person for More Information: Theodore Katz, Designated Federal Officer, NIOSH, CDC, 1600 Clifton Road NE., Mailstop E-20, Atlanta Georgia 30333, Telephone (513)533-6800, Toll Free 1(800)CDC-INFO, Email ocas@cdc.gov.

The Director, Management Analysis and Services Office, has been delegated the authority to sign Federal Register notices pertaining to announcements of meetings and other committee management activities, for both the Centers for Disease Control and Prevention and the Agency for Toxic Substances and Disease Registry.

Elaine L. Baker,
Director, Management Analysis and Services Office.

[FR Doc. 2015-01380 Filed 1-26-15; 8:45 am]

BILLING CODE 4163-19-P